DEPARTMENT OF COMMERCE

Bureau of Economic Analysis

Proposed Data Sharing Activity

AGENCY: Bureau of Economic Analysis, Department of Commerce.

ACTION: Notice of determination.

SUMMARY: The Bureau of Economic Analysis (BEA) will provide to the Bureau of the Census (Census Bureau) for statistical purposes exclusively data collected in its surveys of foreign direct investment (FDI) in the United States. In accordance with the requirement of Section 524(d) of the Confidential Information Protection and Statistical Efficiency Act of 2002 (CIPSEA), we provided the opportunity for public comment on this data-sharing action (see the May 18, 2004 edition of the Federal Register (69 FR 28119)). The Census Bureau will link the FDI data, primarily those collected in the Benchmark Survey of Foreign Direct Investment in the United States—2002, to establishments in the Census Bureau's 2002 Economic Census and Business Register. Through the use of these shared data, the Census Bureau will augment and improve its establishment data on all U.S. businesses from the Economic Census by separately identifying data for the establishments of foreign-owned U.S. companies for specific detailed industries, and by identifying data quality issues arising from reporting differences in the Census Bureau and BEA surveys. The Census Bureau and BEA will publish non-confidential aggregate reports (public use) that have cleared BEA and Census Bureau disclosure review. Disclosure review is a process conducted to verify that the data to be released do not reveal any confidential information.

DATES: BEA will make the data collected from the Benchmark Survey of Foreign Direct Investment in the United States—2002 available to the Census Bureau on September 14, 2004.

FOR FURTHER INFORMATION CONTACT: Requests for additional information on this program should be directed to Christopher Emond, Chief, Special Surveys Branch, International Investment Division, Bureau of Economic Analysis (BE-50), Washington, DC 20230, by phone on (202) 606-9826, by fax on 202-606-5318, or by e-mail at christopher.emond@bea.gov.

SUPPLEMENTARY INFORMATION:

Background

CIPSEA (Pub. L. 107-347, Title V) and the International Investment and Trade in Services Survey Act (Pub. L. 94-472, 22 United States Code (U.S.C.) 3101-3108) allow BEA and the Census Bureau to share certain business data for exclusively statistical purposes. Section 524(d) of the CIPSEA requires a Federal Register notice announcing the intent to share data (allowing 60 days for public comment).

On May 18, 2004 (69 FR 28119), BEA published in the Federal Register a notice of this proposed data-sharing activity and request for comment on the subject. BEA did not receive any comments.

Shared Data

BEA will provide the Census Bureau with data collected from the FDI surveys. The agreement also calls for the Census Bureau to share data collected from the 2002 Economic Census and Business Register. The Census Bureau issued a separate notice addressing this issue (69 FR 39408, June 30, 2004).

BEA will provide the Census Bureau with only those data items necessary to link records from the FDI surveys with the establishments from the Business Register. The Census Bureau will use these data for statistical purposes exclusively. Through record linkage, the Census Bureau will augment and improve its establishment data on all U.S. businesses from the Economic Census by separately identifying data for the establishments of foreign-owned U.S. companies for specific detailed industries, and by identifying data quality issues arising from reporting differences in the Census Bureau and BEA surveys.

Statistical Purposes for the Shared Data

Information collected from the FDI surveys are used to estimate the financial and operating data, direct investment positions, and the international transactions of U.S. affiliates of foreign companies. Statistics from these surveys are published in articles in the Survey of Current Business and in separate data publications. All data are collected under sections 3101-3108, of Title 22 U.S.C.

Data Access and Confidentiality

Title 22, U.S.C. 3104 protects the confidentiality of these data. The data may be seen only by persons sworn to uphold the confidentiality of the information. Access to the shared data will be restricted to specifically authorized personnel and will be provided for statistical purposes only. The results of this project are subject to disclosure protection. All Census Bureau employees with access to these data will become BEA Special Sworn Employees—meaning that they, under penalty of law, must uphold the data's confidentiality. To further safeguard the confidentiality of the data, BEA has conducted an Information Technology security review of the Census Bureau.

Dated: September 7, 2004.
J. Steven Landefeld,
Director, Bureau of Economic Analysis.

[FR Doc. 04-20619 Filed 9-13-04; 8:45 am]

BILLING CODE 3510-06-P